DEPARTMENT OF COMMERCE

National Institute of Standards and Technology

National Conference on Weights and Measures; 2023 Annual Meeting

AGENCY: National Institute of Standards and Technology, Commerce.

ACTION: Notice.

SUMMARY: The 108th Annual Meeting of the National Conference on Weights and Measures (NCWM) will be held in at the Norfolk Waterside Marriott in Norfolk, Virginia from Sunday, July 30, 2023, through Thursday, August 3, 2023. This notice contains information about significant items on the NCWM Committee agendas but does not include all agenda items. As a result, the items are not consecutively numbered.

DATES: The 2023 NCWM Annual Meeting will be held from Sunday, July 30, 2023, through Thursday, August 3, 2023. The meeting schedule will be available on the NCWM website at www.ncwm.com.

ADDRESSES: This meeting will be held at the Norfolk Waterside Marriott, 235 East Main Street, Norfolk, Virginia 23510.

FOR FURTHER INFORMATION CONTACT: Dr. Katrice Lippa, NIST, Office of Weights and Measures, 100 Bureau Drive, Stop 2600, Gaithersburg, MD 20899-2600. You may also contact Dr. Lippa at (301) 975-3116 or by email at katrice.lippa@nist.gov. The meeting is open to the public, but the payment of a registration fee is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, and cities of the United States, and representatives from the private sector and federal agencies. These meetings bring together government officials and representatives of business, industry, trade associations, and consumer organizations on subjects related to the field of weights and measures technology, administration, and enforcement. NIST hosted the first meeting of the NCWM in 1905. Since then, the conference has provided a model of cooperation between Federal, State, and local governments and the private sector. NIST participates to encourage cooperation between federal agencies and the states in the development of legal metrology requirements. NIST also promotes uniformity in state laws, regulations, and testing procedures used in the regulatory control of commercial weighing and measuring devices, packaged goods, and for other trade and commerce issues.

The NCWM has established multiple Committees, Task Groups, and other working bodies to address legal metrology issues of interest to regulatory officials, industry, consumers, and others. The following are brief descriptions of some of the significant agenda items that will be considered by some of the NCWM Committees at the 2023 NCWM Annual Meeting. Comments will be taken on these and other issues during several public comment sessions. At this stage, the items are proposals.

These notices are intended to make interested parties aware of these development projects and to make them aware that reports on the status of the project will be given at the 2023 NCWM Annual Meeting. The notices are also presented to invite the participation of manufacturers, experts, consumers, users, and others who may be interested in these efforts.

The following are brief descriptions of some of the significant agenda items that will be considered at the 2023 NCWM Annual Meeting. Comments will be taken on these and other recommendations to amend NIST Handbook 44, “Specifications, Tolerances, and other Technical Requirements for Weighing and Measuring Devices” (NIST Handbook 44 or NIST HB 44), NIST Handbook 130, “Uniform Laws and Regulations in the areas of Legal Metrology and Fuel Quality” (NIST Handbook 130 or NIST HB 130), and NIST Handbook 133 Checking the Net Contents of Packaged Goods (NIST Handbook 133 or NIST HB 133). These NIST Handbooks are regularly adopted by reference or through the administrative procedures of all the states.

NCWM S&T Committee (S&T 2023 Annual Meeting)

The Specifications and Tolerances Committee (S&T Committee) will consider proposed amendments to NIST HB 44. Those items address weighing and measuring devices used in commercial applications, that is, devices that are used to buy from or sell to the public or used for determining the quantity of products or services sold among businesses.

For a detailed technical review of the NCWM S&T Committee agenda items, see the 2023 NIST OWM Analysis at https://www.nist.gov/pml/owm/publications/owm-technical-analysis.

The following items are proposals to amend NIST HB 44:

Item Block 4 (B4) Electronically Captured Tickets or Receipts

The S&T Committee will further consider a proposal to allow for the expanded use of electronic captured tickets and receipts by amending NIST HB 44 Sections 1.10. General, 3.30. LMD, 3.31. VTM, 3.32. LPG, 3.34. CLM, 3.37. MFM, 3.38. CDL, 3.39. HGM, 3.35. Milk Meters, and the definition of “recorded representation” in Appendix D, Definitions. The Committee amended this carry-over block of items during the 2020 NCWM Interim Meeting based on comments it received expressing a continued need for printed tickets. As a result, the proposal now references NIST HB 44 paragraph G-S.5.6. in various specific codes. At the 2021 NCWM Annual Meeting, the S&T Committee designated this block proposal as Developing for further comment and consideration. At the 2022 NCWM Interim and Annual Meetings, the S&T Committee designated a Developing status for this block of items to provide stakeholders the opportunity for further review and additional comments on the various devices affected by this proposal. At the 2023 NCWM Interim Meeting, the S&T Committee agreed to assign a Voting status for this item.

VTM—Vehicle Tank Meters

VTM-18.1. S.3.1 Diversion of Measured Liquid S.3.1.1. Means for Clearing the Discharge Hose and UR.2.6.

Clearing the Discharge Hose on a multiple-product, single discharge hose. The S&T Committee will further consider this item, which proposes to provide specifications and user requirements for manifold flush systems designed to eliminate product contamination on VTMs used for multiple products. This proposal would add specifications on the design of VTMs under S.3.1.1. “Means for Clearing the Discharge Hose.” and add a new user requirement UR.2.6. “Clearing the Discharge Hose.” During open hearings of previous NCWM meetings, comments were heard about the design of any system to clear the discharge hose of a product prior to the delivery of a subsequent product which could provide opportunities to fraudulently use this type of system. At the 2021 NCWM Annual Meeting, the Committee agreed to keep this item Developing for further comments and consideration. At the 2022 NCWM Interim Meeting, the Committee agreed to add a new paragraph UR.2.6.2., Minimizing Cross Contamination, to address issues raised about the possibility of cross contamination in receiving tanks with the use of this equipment. The Committee designated a Voting status for this item. At the 2022 NCWM Annual Meeting, this item failed to receive adequate votes to pass and was returned to the S&T Committee. After further review at the 2023 NCWM Interim Meeting, the S&T Committee designated a Voting status for this item.

WIM—Weigh-In-Motion Systems

WIM-23.1. Remove Tentative Status and Amend Numerous Sections Throughout.

The S&T Committee will consider a proposal to convert the current Tentative Code of Section 2.25 Weigh-In-Motion Systems Used for Vehicle Enforcement Screening to Permanent and to expand the code to include “and Enforcement”. This also includes (but is not limited to): (1) the addition of an Accuracy Class “E” WIM scale (in addition to Class A) in the specifications (S); (2) the addition of test procedures to address the new Accuracy Class E in the test procedures (N) section for the determination of test speeds, dynamic test loads, and vehicle positions; (3) the designation of more stringent tolerances (T) for Accuracy Class E as compared to those for Accuracy Class A and a designation noting Accuracy Class E tolerances are to be applied to WIM scales used for enforcement purposes; and (4) the addition of a Class E weighing application in the user requirements (UR) for the explicit enforcement of vehicles based on axle, axle group, and gross vehicle weights. Assessments during the 2022 Regional Weights and Measures Association Meetings recommended a Developing status to allow the submitters to address questions raised regarding the application of tolerances and test procedures and allow input regarding the use of the code for enforcement purposes (rather than screening) from those jurisdictions impacted by the proposed change in scope and status as well as input from other scale manufacturers. The submitters submitted a revised proposal to the NCWM following the release of the 2023 NCWM Publication 15. At the 2023 NCWM Interim Meeting, the Committee updated the item to the latest version and the S&T continues to make changes to this item and has assigned it an Informational status.

EVF—Electric Vehicle Fueling Systems

EVF-23.1. S.2.5.1. Money-Value Divisions Digital, S.5.2.(b) EVSE Identification and Marking Information, S.5.3.(d) Abbreviations and Symbols; J, S.8.(a) MMQ, N.1. No Load Test, T.5. No Load Test, N.2. Starting Load Test, T.6. Starting Load, and Appendix D-Definitions; Megajoule (MJ).

The S&T Committee will consider a proposal that will further refine electric vehicle fueling systems code requirements in NIST HB 44, Section 3.40 Electric Vehicle Fueling Systems Code to: (1) remove the “megajoule” unit of measurement definition and all references to the term cited in the design specifications; (2) base the computation of the total sales price on a more appropriate quantity interval that does not exceed 0.01 kWh rather than a 0.1 kWh; (3) decrease the permissible sizes of the minimum measured quantity (MMQ) to those that are more appropriate quantities for AC and DC systems deliveries and result in a shorter duration for the light load test procedure; and (4) no longer require an accuracy test and the applicable test tolerances at no load and at starting load. At the 2023 NCWM Interim Meeting, the S&T Committee made further edits to the proposal based on comments received from the NIST-sponsored Electric Vehicle Fueling Equipment subgroup of the U.S. National Working Group on Measuring Systems for Electric Vehicle Fueling and Submetering and agreed to assign a Voting status to this item.

GMA—Grain Moisture Meters 5.56. (A)

GMA-19.1. Table T.2.1. Acceptance and Maintenance Tolerances Air Oven Method for All Grains and Oil Seeds.

The S&T Committee will further consider a proposal that would reduce the tolerances for the air oven reference method in the Grain Moisture Meters Code. The proposed new tolerances would apply to all types of grains and oil seeds. This item is a carry-over proposal from 2019 and would replace the contents of Table T.2.1. with new criteria. Additional inspection data will be collected and reviewed to assess whether or not the proposed changes to the tolerances are appropriate. At the 2022 NCWM Annual Meeting, the Committee recommended a Developing status to allow for consideration of additional data. Data was collected from one State and presented at the 2022 Grain Analyzer Sector Meeting. At the 2023 NCWM Interim Meeting, the S&T Committee assigned a Developing status to this item as additional data is collected.

NCWM L&R Committee (L&R 2023 Annual Meeting)

The Laws and Regulations Committee (L&R Committee) will consider proposed amendments to NIST HB 130.

Item MOS-20.5, Section 2.21 Liquefied Petroleum Gas.—The L&R Committee will further consider a proposal to clarify the existing language for the method of sale of Liquefied Petroleum Gas. This will include changes to the existing language within NIST HB 130 that references a value of “15.6 °C” for temperature determinations in metric units.

According to the current industry practice for sales of petroleum products, the reference temperature for sales in metric are based on 15 °C rather than the exact conversion from 60 °F (which is 15.6 °C). This will also add language specifying that a metering system that automatically temperature compensation shall be used for all metered sales with a maximum capacity equal to or greater than 20 gal/min. For metering systems with a maximum capacity less than 20 gal/min, an effective date of January 2030 will be added for all metered sales to be automatic temperature compensated.

Item Block 4—E-Commerce Item OTH 22.1. Uniform Labeling Regulation for Electronic Commerce (referred as e-commerce) Products—The L&R Committee will further consider a proposal that is designated as a “Voting” item. This proposal would add a new regulation to NIST HB 130 that pertains to the labeling of products in e-commerce for consumer commodities and non-consumer commodities. This regulation will provide guidance to industry, as well as those states that adopt this regulation for the purpose of inspecting e-commerce websites. This regulation would also lay out terms that shall appear on an e-commerce website including product identity, net quantity, responsible party, unit price, and price information. Online businesses shall have this regulation implemented 18 months after adoption.

Item Block 3 Cannabis—PAL-22.2 Section 10.XX. Cannabis and Cannabis-Containing Products.¹ The L&R Committee will consider establishing definitions and labeling requirements for Cannabis and Cannabis-Containing Products intended for human or animal consumption or application. Also, within this block is B3: MOS-22.2. HB130 Section 1.XX. and Section 2.XX. Cannabis and Cannabis-Containing Products. The Committee will consider a proposal to amend these two sections to establish a definition and include language for a method of sale for Cannabis. Included within this proposal is a water activity limit of 0.60 (± 0.05) when unprocessed Cannabis is sold or transferred.

¹ In contrast to hemp, marijuana, which is defined as cannabis with a tetrahydrocannabinol (THC) concentration of more than 0.3 percent on a dry weight basis, remains a Schedule I substance under the Controlled Substances Act (CSA). 21 U.S.C. 812(d); 21 CFR 1308.11(d)(23).

The Committee will be provided an update from the NCWM Cannabis Task Group on Item NET-22.1 NIST HB 133, Section 1.2.6. Deviations Caused by Moisture Loss or Gain and Section 2.3.8. Table 2-3 Moisture Allowances which provides for a 3% moisture allowance for Cannabis plant material containing more than 0.3% total delta-9 THC (Cannabis, Marijuana, or Marihuana) or containing 0.3% less total delta-9 THC (hemp).

Alicia Chambers,
NIST Executive Secretariat.

[FR Doc. 2023-14969 Filed 7-13-23; 8:45 am]

BILLING CODE 3510-13-P